DEPARTMENT OF HOMELAND SECURITY

8 CFR Parts 103, 106, 204, 211, 212, 214, 216, 217, 223, 235, 236, 240, 244, 245, 245a, 248, 264, 274a, 286, 301, 319, 320, 322, 324, 334, 341, 343a, 343b and 392

[CIS No. 2627-18; DHS Docket No. USCIS-2019-0010]

RIN 1615-AC18

U.S. Citizenship and Immigration Services Fee Schedule and Changes to Certain Other Immigration Benefit Request Requirements; Correction

AGENCY: U.S. Citizenship and Immigration Services, DHS.

ACTION: Final rule; correction.

SUMMARY: On August 3, 2020, the Department of Homeland Security (DHS) published a final rule to amend DHS regulations to adjust certain immigration and naturalization benefit request fees charged by U.S. Citizenship and Immigration Services (USCIS) and make certain other changes. In this rule, we are correcting several technical errors.

DATES: Effective October 2, 2020.

FOR FURTHER INFORMATION CONTACT: Kika Scott, Chief Financial Officer, U.S. Citizenship and Immigration Services, Department of Homeland Security, 20 Massachusetts Avenue NW, Washington, DC 20529-2130, telephone (202) 272-8377.

SUPPLEMENTARY INFORMATION:

Need for Correction

On August 3, 2020, the Department of Homeland Security published a final rule in the Federal Register at 85 FR 46788 revising immigration and naturalization benefit request fees charged by U.S. Citizenship and Immigration Services (USCIS), fee exemptions and fee waiver requirements, premium processing time limits, and intercountry adoption processing (FR Doc. 2020-16389). DHS has also published a rule to correct four technical errors in the final rule. See 85 FR 49941 (Aug. 17, 2020).

The Federal Register did not include the effective date of the rule in a table in the rule, and inserted text that was not in the signed document. In addition, DHS included amendatory instructions in the final rule that would inadvertently remove certain text that was not intended, not remove certain text that was intended to be removed, or, from a technical standpoint, result in grammatically incorrect phrasing or format.

Correction of Publication

Accordingly, the publication on August 3, 2020, at 85 FR 46788, the final rule that was the subject of FR Doc. 2020-16389 is corrected as follows:

1. On page 46831, column 2, under the headings “G. Comments on Specific Fees,” “1. Fees for Online Filing”, the number “545” is corrected to read “commenters”.

2. On page 46829, in Table 4, column 2, the two instances of “[INSERT EFFECTIVE DATE OF 2018/2019 FEE RULE]” are corrected to read “October 2, 2020”.

3. On page 46886, column 3, footnote 121 is removed.

§ 214.1 [Corrected]

4. On page 46923, column 3, instruction 31.d.ii for § 214.1 is corrected to read “ “Form I-129” and adding in its place in the second sentence “application or petition” and adding in its place in the third sentence “application or”.”

§ 214.2 [Corrected]

5. On page 46923, column 3, instruction 32.o. for § 214.2 is corrected to read “By revising paragraph (h)(19)(i) introductory text;”.

6. On page 46923, column 3, instruction 32.p. for § 214.2 is corrected to read “In paragraph (h)(19)(vi)(A), by removing “a Petition for Nonimmigrant Worker (Form I-129)” and adding in its place “the form prescribed by USCIS”;”.

7. On page 46924, column 1, instruction 32.ff. for § 214.2 is corrected to read “In paragraph (p)(2)(iv)(H), by removing the text “I-129”.”

§ 286.9 [Corrected]

8. On page 46928, column 2, instruction 85 is corrected to read “Section 286.9 is amended in paragraph (a) by removing “§ 103.7(b)(1) of this chapter” and adding in its place “8 CFR 103.7(d)”.”

Chad R. Mizelle,
Senior Official Performing the Duties of the General Counsel for the Department of Homeland Security.

[FR Doc. 2020-19213 Filed 8-27-20; 4:15 pm]

BILLING CODE 9111-97-P